DEPARTMENT OF HEALTH AND HUMAN SERVICES

Food and Drug Administration

[Docket No. FDA-2008-N-0484]

Preparation for International Conference on Harmonization Meetings in Brussels, Belgium; Public Meeting; Amendment of Notice

AGENCY: Food and Drug Administration, HHS.

ACTION: Notice.

SUMMARY: The Food and Drug Administration (FDA) is announcing an amendment to the public meeting notice entitled “Preparation for ICH meetings in Brussels, Belgium.” This meeting was announced in the Federal Register of September 16, 2008 (73 FR 53428). The amendment is being made to reflect changes in the Location portion of the document. There are no other changes.

FOR FURTHER INFORMATION CONTACT: Tammie Jo Bell, Office of the Commissioner, Food and Drug Administration, 5600 Fishers Lane, Rockville, MD 20857, by email: Tammie.Bell2@fda.hhs.gov or fax: 301-827-0003.

SUPPLEMENTARY INFORMATION: In the Federal Register of September 16, 2008, FDA announced that a preparation meeting for the International Conference on Harmonization will be held on October 21, 2008 from 2:30 p.m. to 5:30 p.m.

On page 53428, in the first column, the Location portion of the document is amended to read as follows:

Location: The meeting will be held at the Hilton Washington DC/ Rockville Hotel & Executive Meeting Center, Regency Room, 1750 Rockville Pike, Rockville, MD 20852. For directions please visit www.washingtondcrockville.hilton.com.

The agenda for the public meeting will be made available via the internet at http://www.fda.gov/cder/meeting/ICH_20081021.htm.

Dated: October 15, 2008.
Jeffrey Shuren,
Associate Commissioner for Policy and Planning.

[FR Doc. E8-25034 Filed 10-20-08; 8:45 am]

BILLING CODE 4160-01-S